DEFENSE NUCLEAR FACILITIES SAFETY BOARD

Extension of Hearing Record Closure Date

AGENCY: Defense Nuclear Facilities Safety Board.

ACTION: Extension of hearing record closure date.

SUMMARY: The Defense Nuclear Facilities Safety Board (Board) published a document in the Federal Register on August 15, 2012, (77 FR 48970), as amended, September 7, 2012, (77 FR 55196), concerning notice of a public hearing and meeting on October 2, 2012, regarding safety-related aspects of the design and factors that could affect the timely execution of the Uranium Processing Facility (UPF) project at the Y-12 National Security Complex. The Board stated in the August 15, 2012 notice that the hearing record would remain open until November 2, 2012, for the receipt of additional materials. The Board made the same representation at the conclusion of the hearing on October 2, 2012.

Extension of Time: The Board now extends the period of time for which the hearing record will remain open to January 2, 2013, to further accommodate submission of answers to questions taken for the record during the course of the public hearing.

Contact Person for Further Information: Debra H. Richardson, Deputy General Manager, Defense Nuclear Facilities Safety Board, 625 Indiana Avenue NW., Suite 700, Washington, DC 20004-2901, (800) 788-4016. This is a toll-free number.

Dated: October 25, 2012.
Peter S. Winokur,
Chairman.

[FR Doc. 2012-26703 Filed 10-30-12; 8:45 am]

BILLING CODE 3670-01-P